INTERNATIONAL TRADE COMMISSION

[Investigation No. 337-TA-1356 (Rescission)]

Certain Dermatological Treatment Devices and Components Thereof; Notice of a Commission Determination To Institute a Rescission Proceeding and, Upon Institution, To Rescind the Remedial Orders; Termination of the Rescission Proceeding

AGENCY: U.S. International Trade Commission.

ACTION: Notice.

SUMMARY: Notice is hereby given that the U.S. International Trade Commission (“the Commission”) has determined to institute a rescission proceeding and, upon institution, to rescind the limited exclusion order and cease and desist orders issued in the underlying investigation. The rescission proceeding is terminated.

FOR FURTHER INFORMATION CONTACT: Panyin A. Hughes, Office of the General Counsel, U.S. International Trade Commission, 500 E Street SW, Washington, DC 20436, telephone (202) 205-3042. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on April 6, 2023, based on a complaint filed by Serendia, LLC of Lake Forest, California (“Serendia”). 88 FR 20551-52 (Apr. 6, 2023). The complaint, as supplemented, alleged violations of section 337 of the Tariff Act of 1930, as amended, 19 U.S.C. 1337, in the importation into the United States, the sale for importation, or the sale within the United States after importation of certain dermatological treatment devices and components thereof by reason of infringement of certain claims of U.S. Patent No. 9,480,836 (“the '836 patent”); U.S. Patent No. 9,320,536 (“the '536 patent”); U.S. Patent No. 9,775,774 (“the '774 patent”); U.S. Patent No. 10,869,812 (“the '812 patent”); and U.S. Patent No. 11,406,444 (“the '444 patent”). Id. at 20551. The complaint further alleged that a domestic industry exists. Id. The Commission's notice of investigation named as respondents Sung Hwan E&B Co., LTD. d/b/a SHEnB Co. LTD of Seoul, Republic of Korea; Aesthetics Biomedical, Inc. of Phoenix, Arizona; Cartessa Aesthetics, LLC of Melville, New York; Lutronic Corporation of Goyang-si, Republic of Korea; Lutronic Aesthetics, Inc., also known as Lutronic, Inc. of Billerica, Massachusetts; Lutronic, LLC of Billerica, Massachusetts; Ilooda, Co., Ltd. of Anyang-si, Republic of Korea; Cutera, Inc. of Brisbane, California; Rohrer Aesthetics, LLC of Homewood, Alabama; Rohrer Aesthetics, Inc. of Homewood, Alabama; Jeisys Medical Inc. of Seoul, Republic of Korea; Cynosure, LLC of Westford, Massachusetts; and EndyMed Medical Ltd. of Caesarea, Israel; EndyMed Medical, Ltd. of New York, New York; and EndyMed Medical, Inc. of Freehold, New Jersey (together, “EndyMed”). Id. at 20552. The Office of Unfair Import Investigations (“OUII”) is also participating in the investigation. Id.

The Commission subsequently terminated the investigation as to all respondents except for EndyMed. See Order No. 26 (Sept. 18, 2023), unreviewed by Comm'n Notice (Oct. 16, 2023); Order No. 38 (Oct. 27, 2023), unreviewed by Comm'n Notice (Nov. 20, 2023); Order No. 45 (Nov. 15, 2023), unreviewed by Comm'n Notice (Dec. 15, 2023); Order No. 47 (Nov. 20, 2023), unreviewed by Comm'n Notice (Dec. 15, 2023); Order No. 53 (Apr. 11, 2024), unreviewed by Comm'n Notice (May 8, 2024); Order No. 51 (Dec. 13, 2023), unreviewed by Comm'n Notice (Jan. 10, 2024); Order No. 64 (Dec.18, 2024), unreviewed by Comm'n Notice (Jan. 17, 2025).

The ALJ held a Markman hearing on July 13, 2023, and issued a Markman Order on October 25, 2023, construing certain disputed claim terms. Order No. 35 (Oct. 25, 2023). The ALJ found the pending claims of the '444 patent, claims 4, 6, and 7, indefinite in the Markman Order and did not consider those claims any further in the Investigation. Markman (Order No. 35) at 62.

On December 19, 2024, the ALJ issued the final ID finding a violation of section 337 as to claims 1, 9, and 22 of the '836 patent; claims 11 and 16 of the '536 patent; claim 14 of the '774 patent; and claims 5, 13, and 18 of the '812 patent by EndyMed. On February 28, 2025, the Commission determined to review the final ID in part, including the ID's finding that the asserted claims of the '444 patent are invalid for indefiniteness. 90 FR 11433-36 (Mar. 6, 2023).

On June 3, 2025, the Commission determined that EndyMed violated section 337 by reason of importation and sale of articles that infringe asserted claims 1, 9, and 22 of the '836 patent; claims 11 and 16 of the '536 patent; claim 14 of the '774 patent; and claims 5, 13, and 18 of the '812 patent. 90 FR 24292-94 (June 9, 2025). For remedy, the Commission issued a limited exclusion order prohibiting further importation of infringing products and cease and desist orders against EndyMed (“Remedial Orders”). Id. at 24294.

As to the '444 patent, the Commission determined to reverse and remand the ID's indefiniteness finding for further proceedings consistent with the Commission's opinion and remand order. Id.

On July 1, 2025, Serendia and EndyMed jointly moved under 19 U.S.C. 1337(k) and 19 CFR 210.76 to rescind the remedial orders. The motion states that rescission of the remedial orders is warranted because the parties have entered into a settlement agreement under which EndyMed is licensed to the asserted patents and thus “conduct prohibited by the Commission's Remedial Orders directed to EndyMed with respect to certain dermatological treatment devices and components thereof is now licensed and authorized by Serendia.” Motion at 2. The motion further states that “EndyMed's license to the entirety of the patents forming the basis of the Remedial Orders constitutes a changed condition of fact justifying rescission of the remedial orders” and that recission of the remedial orders is in the public interest and supported by Commission precedent. Id. (citing Certain Digital Video Receivers & Related Hardware & Software Components, Inv. No. 337-TA-1103, Comm'n Order (Rescission of Remedial Orders) (Nov. 19, 2020); Certain Beverage Dispensing Systems and Components Thereof, Inv. No. 337-TA-1130, Comm'n Order (Rescission of Remedial Orders) (June 3, 2020); Certain Marine Sonar Imaging Systems, Products Containing the Same, and Components Thereof, Inv. No. 337-TA-926 (Enf.), Comm'n Notice (June 21, 2016) (rescinding remedial orders)).

In accordance with Commission Rule 210.76(a)(3), the motion includes confidential and public versions of the settlement agreement and a statement that “[t]here are no other agreements, written or oral, express or implied between the Serendia and EndyMed concerning the subject matter of the Investigation.” Motion at 1; 19 CFR 210.76(a)(3).

On July 8, 2025, OUII filed a response in support of the motion.

The Commission has determined to institute a rescission proceeding and finds that, due to the settlement agreement, the conditions which led to the issuance of the remedial orders no longer exist, and therefore, rescission of the Remedial Orders is warranted under section 337(k) (19 U.S.C. 1337(k)) and Commission Rule 210.76(a) (19 CFR 210.76(a)). Thus, the Commission has determined to rescind the Remedial Orders. The Commission hereby terminates the rescission proceeding.

The Commission vote for this determination took place on July 29, 2025.

The authority for the Commission's determination is contained in section 337 of the Tariff Act of 1930, as amended (19 U.S.C. 1337), and in Part 210 of the Commission's Rules of Practice and Procedure (19 CFR part 210).

By order of the Commission.
Issued: July 29, 2025.
Lisa Barton,
Secretary to the Commission.

[FR Doc. 2025-14539 Filed 7-31-25; 8:45 am]

BILLING CODE 7020-02-P